DEPARTMENT OF TRANSPORTATION

Federal Aviation Administration

14 CFR Part 39

[Docket No. 2003-NM-187-AD]

RIN 2120-AA64

Airworthiness Directives; Airbus Model A319 and A320 Series Airplanes

AGENCY: Federal Aviation Administration, DOT.

ACTION: Notice of proposed rulemaking (NPRM).

SUMMARY: This document proposes the adoption of a new airworthiness directive (AD) that is applicable to certain Airbus Model A319 and A320 series airplanes. This proposal would require repetitive detailed inspections to detect cracks in the keel beam side panels, and repair if necessary. Accomplishment of the repair ends the repetitive inspections for that repaired area. This action is necessary to detect and correct fatigue cracks on the side panels of the keel beams, which could result in reduced structural integrity of the airplane. This action is intended to address the identified unsafe condition.

DATES: Comments must be received by May 3, 2004.

ADDRESSES: Submit comments in triplicate to the Federal Aviation Administration (FAA), Transport Airplane Directorate, ANM-114, Attention: Rules Docket No. 2003-NM-187-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-187-AD” in the subject line and need not be submitted in triplicate. Comments sent via the Internet as attached electronic files must be formatted in Microsoft Word 97 or 2000 or ASCII text.

The service information referenced in the proposed rule may be obtained from Airbus, 1 Ronda Point Maurice Ballonet, 31707 Blanca Codex, France. This information may be examined at the FAA, Transport Airplane Directorate, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-187-AD.” The postcard will be date stamped and returned to the commenter.

Availability of NPRMs

Any person may obtain a copy of this NPRM by submitting a request to the FAA, Transport Airplane Directorate, ANM-114, Attention: Rules Docket No. 2003-NM-187-AD, 1601 Lind Avenue, SW., Renton, Washington 98055-4056.

Discussion

The DGAC, which is the airworthiness authority for France, notified the FAA that an unsafe condition may exist on certain Airbus Model A319 and A320 series airplanes. The DGAC advises that, during certification structural fatigue tests, cracks were found on the side panels of the keel beams. Such fatigue cracking, if not detected and corrected in a timely manner, could result in reduced structural integrity of the fuselage.

Explanation of Relevant Service Information

Airbus has issued Service Bulletin A320-53-1060, dated June 19, 2002, which describes procedures for repetitive detailed inspections to detect cracks in the keel beam side panels, and repair if necessary. Accomplishment of the repair ends the repetitive inspections for that repaired area. Accomplishment of the actions specified in the service bulletin is intended to adequately address the identified unsafe condition. The DGAC classified this service bulletin as mandatory and issued French airworthiness directive 2003-146(B), dated April 16, 2003 (a correction was issued May 14, 2003), in order to assure the continued airworthiness of these airplanes in France.

FAA's Conclusions

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Differences Between Proposed AD and Service Bulletin

Operators should note that, although the service bulletin specifies that the manufacturer may be contacted for disposition of certain repair conditions, this proposed AD would require the repair of those conditions to be accomplished per a method approved by either the FAA, or the Direction Generale De L'Aviation Civile (DGAC), France (or its delegated agent). In light of the type of repair that would be required to address the identified unsafe condition, and in consonance with existing bilateral airworthiness agreements, the FAA has determined that, for this proposed AD, a repair approved by either the FAA or the DGAC (or its delegated agent) would be acceptable for compliance with this proposed AD.

Operators should also note that, unlike the procedures described in the service bulletin, this proposed AD would not permit further flight if cracks are detected in the keel beam side panel. The FAA has determined that, because of the safety implications and consequences associated with such cracking, any subject keel beam side panel that is found to be cracked must be repaired or modified before further flight.

Cost Impact

The FAA estimates that 400 Model A319 and A320 series airplanes of U.S. registry would be affected by this proposed AD, that it would take approximately 13 work hours per airplane to accomplish the proposed inspection, and that the average labor rate is $65 per work hour. Based on these figures, the cost impact of the proposed AD on U.S. operators is estimated to be $338,000, or $845 per airplane, per inspection cycle.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2003-NM-187-AD.

Applicability: Model A319 and A320 series airplanes, certificated in any category; except those airplanes on which Airbus Modification 30355 has been incorporated in production.

Compliance: Required as indicated, unless accomplished previously.

To detect and correct fatigue cracks on the side panels of the keel beams, which could result in reduced structural integrity of the airplane, accomplish the following:

Service Bulletin

(a) The term “service bulletin,” as used in this AD, means the Accomplishment Instructions of Airbus Service Bulletin A320-53-1060, dated June 19, 2002.

Initial Inspection

(b) Perform a detailed inspection to detect cracks in the keel beam side panels, in accordance with the service bulletin, at the time specified in either paragraph (b)(1) or (b)(2) of this AD, as applicable.

Note 1: For the purposes of this AD, a detailed inspection is defined as: “An intensive visual examination of a specific structural area, system, installation, or assembly to detect damage, failure, or irregularity. Available lighting is normally supplemented with a direct source of good lighting at intensity deemed appropriate by the inspector. Inspection aids such as a mirror, magnifying lenses, etc., may be used. Surface cleaning and elaborate access procedures may be required.”

(1) For airplanes that have not been inspected per Maintenance Review Board (MRB) task 53-31-42: Inspect at the later of the times specified in paragraph (b)(1)(i) and (b)(1)(ii) of this AD.

(i) Prior to the accumulation of 24,200 total flight cycles, or 48,400 total flight hours, whichever occurs first.

(ii) Within 3,500 flight cycles after the effective date of this AD.

(2) For airplanes that have been inspected per MRB task 53-31-42: Inspect at the later of the times specified in paragraph (b)(2)(i) and (b)(2)(ii) of this AD.

(i) Within 4,300 flight cycles or 9,600 flight hours after the last inspection per MRB task 53-31-42, whichever occurs first.

(ii) Within 3,500 flight cycles after the effective date of this AD.

Repetitive Inspections

(c) Repeat the detailed inspection required by paragraph (b) of this AD at intervals not to exceed 4,300 flight cycles or 9,600 flight hours, whichever occurs first.

Corrective Actions

(d) If any crack is found in “Area A” during any inspection required by this AD, before further flight, repair the affected area in accordance with the service bulletin. Once a repair has been accomplished to “Area A,” the repetitive inspections of “Area A” required by paragraphs (b) and (c) of this AD are no longer required for that side of the keel beam.

(e) If any crack is found in “Area B” during any inspection required by this AD, before further flight, repair the affected structure per a method approved by either the Manager, International Branch, ANM-116, FAA, Transport Airplane Directorate; or the Direction Generale De L'Aviation Civile (DGAC) (or its delegated agent).

Alternative Methods of Compliance

(f) In accordance with 14 CFR 39.19, the Manager, International Branch, FAA, is authorized to approve alternative methods of compliance (AMOCs) for this AD.

Note 2: The subject of this AD is addressed in French airworthiness directive 2003-146(B), dated April 16, 2003 (a correction was issued May 14, 2003).

Issued in Renton, Washington, on March 24, 2004.
Kalene C. Yanamura,
Acting Manager, Transport Airplane Directorate, Aircraft Certification Service.

[FR Doc. 04-7296 Filed 3-31-04; 8:45 am]

BILLING CODE 4910-13-P